DEPARTMENT OF LABOR

Employment and Training Administration

[TA-W-60,807; TA-W-60,807A]

NothelferGilman, Incorporated, Currently Known as ThyssenKrupp Drauz Nothelfer NA, Inc., Formerly Known as Gilman Engineering and Manufacturing Company, Including On-Site Leased Workers From Advanced Project Services, LLC, Aerotek, Inc., Human Capital Solutions, Impact Engineering Solutions, Inc., Techstaff of Milwaukee, Inc. and Manpower, Inc., Janesville, WI, Including an Employee of NothelferGilman, Incorporated, Currently Known as ThyssenKrupp Drauz Nothelfer NA, Inc., Formerly Known as Gilman Engineering and Manufacturing Company, Janesville, WI Located in Auburn Hills, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on March 8, 2007, applicable to workers of NothelferGilman, Inc., formerly known as Gilman Engineering and Manufacturing Company, including on-site leased workers from Advanced Project Services, LLC, Aerotek, Inc., Human Capital Solutions, Impact Engineering Solutions, Inc., and Techstaff of Milwaukee, Inc., Janesville, Wisconsin. The notice was published in the Federal Register on March 22, 2007 (72 FR 13528). The certification was amended on July 22, 2008 to show that NothelferFilman, Incorporated is currently known as ThyssenKrupp Drauz Nothelfer NA and to include on-site leased workers. The notice was published in the Federal Register on July 30, 2008 (73 FR 44282).

At the request of a company official, the Department reviewed the certification for workers of the subject firm. The workers were engaged in the production of assembly and welding systems.

New information shows that a worker separation has occurred involving an employee working in support of the Janesville, Wisconsin facility of the subject firm located in Auburn Hills, Michigan. Mr. Paul D'Angelo provided business development services directly for the production of assembly and welding systems at the Janesville, Wisconsin location of the subject firm. The Department has determined that Mr. Paul D'Angelo was sufficiently under the control of the Janesville, Wisconsin location to be covered under this certification.

Based on these findings, the Department is amending this certification to include an employee in support of the firm's Janesville, Wisconsin facility located in Auburn Hills, Michigan.

The intent of the Department's certification is to include all workers of NothelferGilman, Inc., formerly known as Gilman Engineering and Manufacturing Company, Janesville, Wisconsin who were adversely affect by increased imports of assembly and welding systems.

The amended notice applicable to TA-W-60,807 is hereby issued as follows:

All workers of NothelferGilman, Inc., currently known as ThyssenKrupp Drauz Nothelfer NA, Inc., formerly known as Gilman Engineering and Manufacturing Company, including on-site leased workers of Advanced Project Services, LLC, Aerotek, Inc., Human Capital Solutions, Impact Engineering Solutions, Inc., Techstaff of Milwaukee, Inc. and Manpower, Inc., Janesville, Wisconsin (TA-W-60,807) including an employee in support of NothelferGilman, Inc., currently known as ThyssenKrupp Drauz Nothelfer NA, Inc., formerly known as Gilman Engineering and Manufacturing Company, Janesville, Wisconsin located in Auburn Hills, Michigan (TA-W-60,807A), who became totally or partially separated from employment on or after January 22, 2007, through March 8, 2009, are eligible to apply for adjustment assistance under Section 223 of the Trade Act of 1974, and are also eligible to apply for alternative trade adjustment assistance under Section 246 of the Trade Act of 1974.

Signed at Washington, DC this 19th day of September 2008.
Elliott S. Kushner,
Certifying Officer, Division of Trade Adjustment Assistance.

[FR Doc. E8-22400 Filed 9-23-08; 8:45 am]

BILLING CODE 4510-FN-P